DEPARTMENT OF AGRICULTURE

Rural Business-Cooperative Service

Notice of Solicitation of Applications (NOSA) for the Rural Energy for America Program for Fiscal Year (FY) 2020; Amendment

AGENCY: Rural Business-Cooperative Service, USDA (Rural Development).

ACTION: Notice of solicitation of applications; amendment.

SUMMARY: The Rural-Business Cooperative Service (the Agency) published a notice of solicitation of applications in the Federal Register on August 30, 2019, entitled “Notice of Solicitation of Applications for the Rural Energy for America Program for Fiscal Year 2020,” to allow potential applicants time to submit applications for financial assistance under the Rural Energy for America Program (REAP) for fiscal year (FY) 2020 and allow the Agency time to process applications within the current FY. This notice extends the application window closing date from March 31, 2020 to April 15, 2020.

FOR FURTHER INFORMATION CONTACT: Please contact the applicable USDA Rural Development Energy Coordinator in your respective state, as identified via the following link: https://www.rd.usda.gov/files/RBS_StateEnergyCoordinators.pdf.

For information about this Notice, please contact Deb Yocum, Program Management Division, Rural Business-Cooperative Service, United States Department of Agriculture, 1400 Independence Avenue SW, MS 3226, Room 4204-South, Washington, DC 20250-3226, or call 402-499-1198.

SUPPLEMENTARY INFORMATION: In the Federal Register on August 30, 2019 (84 FR 45713), make the following amendments:

In the third column on page 45716, under Section IV Application and Submission Information, subsection C. Submission Dates and Times, paragraph (1)(a)(ii) amend the language to: 4:30 p.m. local time on April 15, 2020.

In the third column on page 45716, under Section IV Application and Submission Information, subsection C. Submission Dates and Times, paragraph (1)(b) amend the language to: For applicants requesting a grant only of over $20,000 (unrestricted) or a combination grant and guaranteed loan where the grant request is greater than $20,000, complete applications must be received no later than 4:30 p.m. local time on April 15, 2020.

In the third column of the table on page 45716, amend the Application window closing dates for the Renewable Energy Systems and Energy Efficiency Improvements Grants ($20,000 or less grant and guaranteed loan where the grant request is $20,000 or less competing for the remaining set aside funds) to April 15, 2020*.

In the third column of the table on page 45716, amend the Application window closing dates for the Renewable Energy Systems and Energy Efficiency Improvements Grants Unrestricted grants, including combination grant and guaranteed loan where the grant request is greater than $20,000) to April 15, 2020*.

In the first column on page 45718, under section V. Application Review Information, subsection B Review and Selection Process, paragraph (1)(a) amend the second sentence to read: Eligible applications must be submitted by April 15, 2020, in order to be considered for these set-aside funds.

In the first column on page 45718, under section V. Application Review Information, subsection B. Review and Selection Process, paragraph (1)(a) amend the third sentence to read: Approximately 50 percent of these funds will be made available for those complete applications the Agency receives by October 31, 2019, and approximately 50 percent of the funds for those complete applications the Agency receives by April 15, 2020.

In the first column on page 45718, under section V. Application Review Information, subsection B. Review and Selection Process, paragraph (1)(b) amend the first sentence to read: Eligible applications received by April 15, 2020, for renewable energy system and energy efficiency improvements grants of $20,000 or less, that are not funded by State allocations can be submitted to the National Office to compete against grant applications of $20,000 or less from other States at a national competition.

In the first column on page 45718, under section V. Application Review Information, subsection B. Review and Selection Process, paragraph (1)(c) amend the first sentence to read: Eligible applications for renewable energy system and energy efficiency improvements, regardless of the amount of the funding request, received by April 15, 2020, can compete for unrestricted grant funds.

In the second column on page 45718, under section V. Application Review Information, subsection B. Review and Selection Process, paragraph (1) amend paragraph (d) to read: National unrestricted grant funds for all eligible renewable energy system and energy efficiency improvements grant applications received by April 15, 2020, which include grants of $20,000 or less, that are not funded by State allocations can be submitted to the National Office to compete against grant applications from other States at a final national competition.

In the third column on page 45718, under section V. Application Review Information, subsection B. Review and Selection Process, paragraph (3) amend the last sentence to read: All unfunded eligible applications for combined grant and guaranteed loan applications that are received by April 15, 2020, and that are not funded by State allocations can be submitted to the National Office to compete against other grant and combined grand and guaranteed loan applications from other States at a final national competition.

Mark Brodziski,
Acting Administrator, Rural Business-Cooperative Service.

[FR Doc. 2020-06226 Filed 3-24-20; 8:45 am]

BILLING CODE 3410-XY-P